DEPARTMENT OF DEFENSE

Department of the Army; Corps of Engineers

Intent To Prepare a Draft Environmental Impact Statement for Increasing Depths of the Existing Atchafalaya River and Bayous Chene, Boeuf and Black Project Up to 35 Feet, Including Channels in Atchafalaya Bay and the Gulf of Mexico, in Assumption, St. Mary, and Terrebone Parishes in the Vicinity of Morgan City, LA

AGENCY: Department of the Army, U.S. Army Corps of Engineers, DoD.

ACTION: Notice of intent.

SUMMARY: The U.S. Army Corps of Engineers, New Orleans District, is initiating this study under the authority of Section 430 of the Water Resources Development Act of 2000, Public Law 106-541, dated December 11, 2000, to determine the feasibility of deepening the navigation channel of the Atchafalaya River and Bayous Chene, Boeuf, and Black, LA, from 20 feet to 35 feet. Deepwater oil and gas exploration and development in the Gulf of Mexico and other deepwater areas has increased because of growth in demand; depletion of existing oil and gas fields, including those in the shallower areas of the gulf; and advancements in deepwater drilling technologies that include larger platforms. Many of the larger platforms required for deepwater activities are constructed in foreign countries because, among other factors, there are not enough competitive fabrication yards in the United States with adequate navigation access channels. The fabrication industry in the Morgan City-Amelia, LA area could capture a significant portion of the deepwater rig fabrication market if they had deeper navigation access channels to their facilities.

FOR FURTHER INFORMATION CONTACT: Questions concerning the Environmental Impact Statement (EIS) should be addressed to Mr. Michael Salyer at U.S. Army Corps of Engineers, PM-RS, PO Box 60267, New Orleans, LA 70160-0267, phone (504) 862-2037, fax number (504) 862-2572 or by E-mail at michael.r.salyer@mvn02.usace.army.mil.

SUPPLEMENTARY INFORMATION: 1. Proposed Action. The proposed action would include the deepening of the navigation channels included in the existing Atchafalaya River and Bayous Chene, Boeuf, and Black, Louisiana project and in the Lower Atchalaya River south of Morgan City, LA, to project depths up to 35 feet. These channels include the Atchafalaya River south of Morgan City, the existing channels in the Atchafalaya Bay and the Gulf of Mexico, and existing channels in Bayou Chene, Bayou Beouf, and Bayou Black located south of U.S. Highway 90 and south and east of Morgan City. The material dredged for the construction and maintenance of the channels would be used for wetlands restoration and construction, to the extent practicable. Economic and environmental analysis would be used to determine the most practical plan, which would provide for the greatest overall public benefit.

2. Alternatives. Alternatives recommended for consideration presently include the construction of deeper channels in the Atchafalaya River, Atchafalaya Bay, the Gulf of Mexico and Bayous Chene, Boeuf, and Black; and the relocation of the fabrication facilities to other U.S. locations with larger navigation access channels. Incremental 2 reaches of those channels with separable benefits and cost would be investigated. Various project depths for navigation channels would also be investigated.

3. Scoping. Scoping is the process for determining the scope of alternatives and significant resources and issues to be addressed in the EIS. For this analysis, a letter will be sent to all parties believed to have an interest in the analysis, requesting their input on alternatives and issues to be evaluated. The letter will also notify interested parties of public scoping meetings that will be held in the local area. Notices will also be sent to local news media. All interested parties are invited to comment at this time, and anyone interested in this study should request to be included in the study mailing list.

A public scoping meeting will be held in July 2002. The meeting will be held in the vicinity of Morgan City, LA. Additional meetings could be held, depending upon interest and if it is determined that further public coordination is warranted.

4. Significant Resources. The tentative list of resources and issues to be evaluated in the EIS includes tidal wetlands (marshes and swamps), aquatic resources, commercial and recreational fisheries, wildlife resources, essential fish habitat, water quality, air quality, threatened and endangered species, recreation resources, and cultural resources. Socioeconomic items to be evaluated in the EIS include: Navigation, flood protection, business and industrial activity, employment, land use, property values, public/community facilities and services, tax revenues, population, community and regional growth, transportation, housing, community cohesion, and noise.

5. Environmental Consultation and Review. The U.S. Fish and Wildlife Service (USFWS) will be assisting in the documentation of existing conditions and assessment of effects of project alternatives through Fish and Wildlife Coordination Act consultation procedures. The USFWS will provide a Fish and Wildlife Coordination Act report. Consultation will be accomplished with the USFWS and the National Marine Fisheries Service (NMFS) concerning threatened and endangered species and their critical habitat. The NMFS will be consulted on the effects of this proposed action on Essential Fish Habitat. The draft EIS (DEIS) or a notice of its availability will be distributed to all interested agencies, organizations, and individuals.

6. Estimated Date of Availability. Funding levels will dictate the date when the DEIS is available. The earliest that the DEIS is expected to be available in the fall of 2004.

Dated: June 6, 2002.
Thomas F. Julich,
Colonel, U.S. Army, District Engineer.

[FR Doc. 02-16377 Filed 6-27-02; 8:45 am]

BILLING CODE 3710-84-P